DEPARTMENT OF LABOR

Employment and Training Administration

[TA-W-52,289]

Phillips Plastics Corporation, Medical Molding and Assembly, Menomonie, WI; Notice of Termination of Investigation

Pursuant to section 221 of the Trade Act of 1974, as amended, an investigation was initiated on July 11, 2003, in response to a worker petition filed on behalf of workers at Plastics Corporation, Medical Molding and Assembly, Menomonie, Wisconsin.

The petitioning group of workers is covered by an earlier petition filed on June 20, 2003 (TA-W-52,107), that is the subject of an ongoing investigation for which a determination has not yet been issued. Further investigation in this case would duplicate efforts and serve no purpose; therefore the investigation under this petition has been terminated.

Signed at Washington, DC, this 23rd day of July, 2003
Elliott S. Kushner,
Certifying Officer, Division of Trade Adjustment Assistance.

[FR Doc. 03-19862 Filed 8-4-03; 8:45 am]

BILLING CODE 4510-30-P